ENVIRONMENTAL PROTECTION AGENCY

[FRL-6877-2]

Announcement of Availability and Request for Feedback on Results-Based Approaches to Corrective Action Guidance

AGENCY: Environmental Protection Agency (EPA).

ACTION: Notice.

SUMMARY: The intent of this notice is to announce the availability of the initial sections of the “Results-Based Approaches to Corrective Action” draft guidance document and invite public comment. This is the second of three scheduled draft guidance documents to be made available for public comment under the RCRA Cleanup Reforms (July 8, 1999). By inviting feedback we hope to encourage greater involvement by states, industry, and the public. There will be a 60-day public comment period for the initial sections of the draft guidance document “Results-Based Approaches to Corrective Action.”

DATES: Comments may be submitted until November 27, 2000.

ADDRESSES: If you wish to comment on the available sections of the above draft guidance document you should send an original and two copies of your comments, referencing docket number F-2000-RBAA-FFFFF. If using regular U.S. Postal Service mail to: RCRA Docket Information Center, U.S. Environmental Protection Agency Headquarters (EPA HQ), Office of Solid Waste, Ariel Rios Building (5305G), 1200 Pennsylvania Avenue NW, Washington, DC 20460-0002. If using special delivery such as overnight express service send to: RCRA Docket Information Center (RIC), Crystal Gateway I, 1235 Jefferson Davis Highway, First Floor, Arlington, VA 22202. Hand deliveries of comments should be made to the Arlington, VA, address above. You may also submit comments electronically through the Internet to: rcra-docket@epa.gov. Comments in electronic format must also reference the docket number F-2000-RBAA-FFFFF. If you choose to submit your comments electronically, you should submit them as an ASCII file and should avoid the use of special characters and any form of encryption.

You should not submit electronically confidential business information (CBI). You must submit an original and two copies of CBI under separate cover to: RCRA CBI Document Control Officer, Office of Solid Waste, U.S. EPA, Ariel Rios Building (5305W), 1200 Pennsylvania Avenue NW, Washington, DC 20460-0002.

Any public feedback we receive and supporting materials will be available for viewing in the RCRA Information Center (RIC), located at Crystal Gateway I, First Floor, 1235 Jefferson Davis Highway, Arlington, VA. The RIC is open from 9 a.m. to 4 p.m., Monday through Friday, excluding federal holidays. To review docket materials, we recommend that you make an appointment by calling 703-603-9230. You may copy a maximum of 100 pages from any regulatory docket at no charge. Additional copies cost $0.15/page. The index and some supporting materials are available electronically. See the Supplementary Information section of this Federal Register notice for information on accessing the index and these supporting materials.

The Agency is posting this document on the Corrective Action website: http://www.epa.gov/correctiveaction. If you would like to receive a hard copy, please call the RCRA Hotline at 800-424-9346 or TDD 800-553-7672 (hearing impaired).

FOR FURTHER INFORMATION CONTACT: For general information or to obtain copies of the draft guidance document contact the RCRA Hotline at 800-424-9346 or TDD 800-553-7672 (hearing impaired). In the Washington, DC, metropolitan area, call 703-412-9810 or TDD 703-412-3323.

For more detailed information on specific aspects of the draft guidance document, contact Andrew Baca, Office of Solid Waste, 5303W, U.S. Environmental Protection Agency, 1200 Pennsylvania Avenue NW., Washington, DC 20460, (703-308-6787), (baca.andrew@epa.gov).

SUPPLEMENTARY INFORMATION: The draft guidance document will be available on the Internet at: http://www.epa.gov/correctiveaction. Results-Based Approaches to Corrective Action—This guidance will take the form of an overview and supporting documents. The “Overview” and “Tailored Oversight” sections are now available for public review. The “Results-Based Approaches to Corrective Action: Overview” defines results-based corrective action and lists some of the approaches recommended to help stakeholders achieve program goals. These approaches include tailored oversight, procedural flexibility, holistic approach, presumptive remedies, performance standards, use of innovative technologies, targeted data collection, and facility-lead corrective action. The first available supporting document, “Results-Based Approaches to Corrective Action: Tailored Oversight,” focuses on implementing tailored oversight. It provides a recommended framework for project managers and owner/operators to develop an oversight plan tailored to facility-specific conditions. In the future, EPA plans to issue additional supporting documents that deal with other results-based approaches.

The official record for this notice will be kept in paper form. Accordingly, we will transfer all feedback and input received electronically into paper form and place them in the official record, which will also include all comments submitted directly in writing. The official record is the paper record maintained at the RCRA Information Center.

All input will be thoroughly and seriously considered by EPA. EPA will not immediately reply to commenters electronically other than to seek clarification of electronic comments that may be garbled in transmission or during conversion to paper form, as discussed above.

Dated: September 21, 2000.
Elizabeth Cotsworth,
Director, Office of Solid Waste.

[FR Doc. 00-24940 Filed 9-27-00; 8:45 am]

BILLING CODE 6560-50-P